Proclamation 8809 of May 1, 2012

Older Americans Month, 2012

By the President of the United States of America

A Proclamation

America endured great trials and heralded defining triumphs over the course of the 20th century, and the men and women who saw us through that time remain among our Nation’s greatest assets. Through their guiding wisdom, enduring love of family, and inspiring commitment to country, older Americans continue to steer and enhance our national life.

Our seniors make countless contributions as active participants in communities across America. From our parks and schools to our faith and service organizations, the generosity and talents of active seniors augment our children’s education, bring our families together, and strengthen the fabric of our society. This year’s theme for Older Americans Month, “Never Too Old to Play,” celebrates the accomplishments of older Americans and encourages them to find even more ways to stay engaged. May 7 through May 11, 2012, is also Senior Corps Week, when we celebrate the service of the over 300,000 Senior Corps volunteers. Individuals interested in information on local volunteer opportunities can visit www.SeniorCorps.gov.

As we honor the achievements and ongoing contributions of older Americans, my Administration is working with States, territories, and tribes to provide them with support to stay healthy, independent, and engaged. We remain deeply committed to strengthening Medicare, protecting Social Security, enhancing Older Americans Act programs, and implementing the historic Affordable Care Act, which provided more than 32 million seniors with at least one free preventive service or wellness visit last year and helped over 5 million save more than $3.2 billion on prescription drug costs in 2010 and 2011. The Department of Health and Human Services recently awarded more than $1.3 billion in grants to ensure the health and independence of America’s older adults, including $20 million focused on fitness, chronic disease self-management, and medication management. And the Consumer Financial Protection Bureau is safeguarding older Americans from unscrupulous financial schemes that threaten their fiscal security.

Our seniors have devoted their entire lives to building the future their children and grandchildren deserve. During Older Americans Month, we celebrate their successes and recommit to supporting them as they shape America’s next great generation.

NOW, THEREFORE, I, BARACK OBAMA, President of the United States of America, by virtue of the authority vested in me by the Constitution and the laws of the United States, do hereby proclaim May 2012 as Older Americans Month. I call upon all Americans of all ages to acknowledge the contributions of older Americans during this month and throughout the year.

IN WITNESS WHEREOF, I have hereunto set my hand this first day of May, in the year of our Lord two thousand twelve, and of the Independence of the United States of America the two hundred and thirty-sixth.

[FR Doc. 2012-11021

Filed 5-3-12; 2:00 pm]

Billing code 3295-F2-P